SECURITIES AND EXCHANGE COMMISSION

[Release No. 35-28064]

Filing Under the Public Utility Holding Company Act of 1935, as Amended (“Act”)

November 15, 2005.

Notice is hereby given that the following filing has been made with the Commission pursuant to provisions of the Act and rules promulgated under the Act. All interested persons are referred to the application-declaration for complete statements of the proposed transactions summarized below. The application-declaration and any amendments are available for public inspection through the Commission's Branch of Public Reference.

Interested persons wishing to comment or request a hearing on the application-declaration should submit their views in writing by December 12, 2005, to the Secretary, Securities and Exchange Commission, Washington, DC 20549-0609, and serve a copy on Applicants at the addresses specified below. Proof of service (by affidavit or, in the case of an attorney at law, by certificate) should be filed with the request. Any request for hearing should identify specifically the issues of fact or law that are disputed. A person who so requests will be notified of any hearing, if ordered, and will receive a copy of any notice or order issued in this matter. After December 12, 2005, the application-declaration, as filed or as amended, may be granted and/or permitted to become effective.

National Fuel Gas Company, et al. (70-10074)

National Fuel Gas Company (“NFG”), a registered holding company, National Fuel Gas Distribution Corporation (“Distribution”), a public-utility subsidiary company of NFG, and NFG's nonutility subsidiary companies, National Fuel Gas Supply Corporation, Horizon Energy Development, Inc. and its subsidiaries, Highland Forest Resources, Inc. and its subsidiaries, Leidy Hub, Inc., Data-Track Account Services, Inc., Horizon LFG, Inc. and its subsidiaries, Horizon Power, Inc. and its subsidiaries, all at 6363 Main Street, Williamsville, New York 14221, Seneca Resources Corporation and its subsidiaries, at 1201 Louisiana Street, Suite 400 Houston, Texas 77002, and National Fuel Resources, Inc. at 165 Lawrence Bell Drive, Suite 120, Williamsville, New York 14221 (Distribution and NFG's nonutility subsidiary companies are collectively referred to as, “Subsidiaries”), have filed a post-effective amendment to their application-declaration filed under sections 6(a), 7, 9(a), 10, 12(b), 12(f), and 13 of the Act and rules 45 and 54 under the Act.

By order dated November 12, 2002 (HCAR No. 27600) (“Prior Order”) the Commission authorized NFG and its Subsidiaries to engage in financing and related transactions through December 31, 2005 (“Authorization Period”). Specifically, the Commission authorized: (i) NFG to increase equity and long-term debt capitalization in an aggregate amount of up to an additional $1.5 billion, excluding any common stock issued under NFG's shareholder rights plan, and to utilize the proceeds to make investments in its Subsidiaries, and for other corporate purposes; (ii) NFG to issue and sell from time to time up to $750 million principal amount of unsecured short-term debt securities such as commercial paper and notes issued under credit facilities; (iii) NFG and the Subsidiaries to enter into interest rate hedges with respect to outstanding indebtedness and to enter into certain anticipatory interest rate hedging transactions; (iv) NFG to guarantee securities of its Subsidiaries and provide other forms of credit support with respect to obligations of its Subsidiaries as may be necessary in the ordinary course of business in an aggregate amount not to exceed $2 billion outstanding at any one time; (v) NFG to continue to administer the NFG system money pool (“Money Pool”) and invest surplus funds in the Money Pool and for the Subsidiaries to invest surplus funds and make borrowing from the Money Pool subject to certain limitations; (vi) NFG and the nonutility subsidiary companies to organize and acquire the securities of one or more entities (“Financing Subsidiary”) formed for the purpose of effecting financing transaction for NFG and its Subsidiaries and to guarantee the obligations of such Financing Subsidiaries; (vii) NFG and the Subsidiaries to change the terms of any majority-owned nonutility subsidiary authorized capitalization; and (viii) NFG to consolidate or otherwise reorganize all or any part of its direct and indirect ownership interest in nonutility subsidiaries.

Under the Prior Order the Commission reserved jurisdiction over (i) the issuance of securities by NFG and are rated below investment grade, and (ii) the solicitation of shareholder approvals in connection with the adoption of any new stock-based plan or the extension or amendment of any existing stock-based plan.

NFG and its Subsidiaries are now requesting the Commission extend the Authorization Period from December 31, 2005 to and including February 8, 2006. NFG and its Subsidiaries (70-10074) are not requesting any other changes to the terms, conditions, and limitations imposed under the Prior Order.

For the Commission, by the Division of Investment Management, pursuant to delegated authority.
Jonathan G. Katz,
Secretary.

[FR Doc. E5-6411 Filed 11-21-05; 8:45 am]

BILLING CODE 8010-01-P